DEPARTMENT OF COMMERCE

National Oceanic and Atmospheric Administration

RIN 0648-XT24

Fisheries of the South Atlantic and Gulf of Mexico; Southeastern Data, Assessment, and Review (SEDAR)

AGENCY: National Marine Fisheries Service (NMFS), National Oceanic and Atmospheric Administration (NOAA), Commerce.

ACTION: Notice of SEDAR Methods and Procedures Workshop 4: Evaluating Assessment Uncertainty.

SUMMARY: SEDAR procedural workshops provide an opportunity for focused discussion and deliberation on topics that arise in multiple assessments and are structured to develop best practices for addressing common issues across assessments. The SEDAR Steering Committee agreed that the three completed procedural workshops were effective and that similar workshops should be held to address other issues that affect multiple assessments. Continuing to address such global issues is recognized as an important to continuing improvements in efficiency and quality.

The 4th procedural workshop will consider methods of addressing uncertainty in SEDAR assessments, including topics such as developing appropriate confidence intervals in both parameter estimates and projection outputs, methods of characterizing and expressing assessment uncertainty beyond that reflected in confidence intervals, use of sensitivity analyses and recommendations on standard sensitivities, and relating uncertainty to overall risk evaluation and especially the risk of overfishing occurring. Participants will prepare a SEDAR procedures document addressing their recommendations that will be used to guide future SEDAR assessments. See SUPPLEMENTARY INFORMATION.

DATES: The SEDAR Uncertainty Procedural Workshop will take place February 22-26, 2010; SEDAR Uncertainty Procedural Workshop Schedule: February 22, 2008: 1 p.m. - 8 p.m.; February 23-25, 2010: 8 a.m.-8 p.m.; February 26, 2010: 8 a.m. - 1 p.m.

ADDRESSES: The SEDAR Uncertainty Procedural Workshop will be held at the Charlotte Marriott SouthPark, 2200 Rexford Road, Charlotte, NC 28211; telephone: (800) 228-9290 or (704) 364-8220.

Council address: South Atlantic Fishery Management Council, 4055 Faber Place Drive, Suite 201, North Charleston, SC 29405.

FOR FURTHER INFORMATION CONTACT: Julie A. Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Assessment Process and (3) Review Workshop. The product of the Data Workshop is a data report which compiles and evaluates potential datasets and recommends which datasets are appropriate for assessment analyses. The product of the Stock Assessment Process is a stock assessment report which describes the fisheries, evaluates the status of the stock, estimates biological benchmarks, projects future population conditions, and recommends research and monitoring needs. The assessment is independently peer reviewed at the Review Workshop. The product of the Review Workshop is a Summary Report documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

Each SEDAR workshop panel is asked to provide research and monitoring recommendations to improve future assessments and feedback on the process to help improve SEDAR itself. Over time, certain key topics emerge that reveal a research need or procedural suggestion that is common to multiple assessments. The SEDAR Steering Committee endorses procedural workshops such as that noticed here to address those issues that affect multiple assessments and require more time and resources to resolve than are typically available during the normal assessment development process. The goal of these workshops is to develop guidelines and practices that will increase the efficiency of subsequent SEDAR assessments.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 10 business days prior to each workshop.

Dated: December 4, 2009.
William D. Chappell,
Acting Director, Office of Sustainable Fisheries, National Marine Fisheries Service.

[FR Doc. E9-29386 Filed 12-9-09; 8:45 am]

BILLING CODE 3510-22-S